ENVIRONMENTAL PROTECTION AGENCY

[FRL-7968-8]

Science Advisory Board Staff Office; Notification To Convene Workgroups of Experts for Rapid Consultative Advice on Scientific and Technical Issues From Hurricane Katrina

AGENCY: Environmental Protection Agency (EPA).

ACTION: Notice.

SUMMARY: The EPA Science Advisory Board (SAB) Staff Office announces its intent to convene workgroups of experts drawn from the U.S. EPA SAB, the Clean Air Scientific Advisory Committee, and the Advisory Council on Clean Air Compliance Analysis (chartered advisory committees), their standing committees, subcommittees, and advisory panels to provide rapid consultative advice on scientific and technical issues in the aftermath of Hurricane Katrina.

FOR FURTHER INFORMATION CONTACT: Members of the public who wish to obtain information about the rapid consultative advice process and projects may contact Dr. Anthony F. Maciorowski, Associate Director for Science, Science Advisory Board Staff Office, by telephone at (202) 343-9983; by e-mail at maciorowski.anthony@epa.gov; or by mail at the U.S. EPA, Science Advisory Board (1400F), 1200 Pennsylvania Avenue, NW, Washington, DC 20460.

SUPPLEMENTARY INFORMATION: The SAB was established by 42 U.S.C. 4365 to provide independent scientific and technical advice, consultation, and recommendations to the EPA Administrator on a technical basis for Agency positions and regulations. The SAB anticipates that the scope and scale of environmental destruction in Mississippi, Louisiana and Alabama will lead EPA Program Offices and Regions to request advice on an array of scientific and technical issues. Rapid consultative advice from nationally recognized scientists and engineers will assist the Agency in developing and implementing timely and scientifically appropriate responses to Hurricane Katrina induced destruction and contamination along the Gulf Coast.

To expedite the development of advice on Hurricane Katrina related issues, the SAB Staff Office will convene workgroups of technical experts drawn from the U.S. EPA SAB, the Clean Air Scientific Advisory Committee, the Advisory Council on Clean Air Compliance Analysis (chartered advisory committees), their standing committees, subcommittees, and advisory panels. Workgroup members will be invited to serve based on their scientific and technical expertise, knowledge, and experience; availability and willingness to serve; absence of financial conflicts of interest; and scientific credibility and impartiality. Due to critical mission and schedule requirements, there is insufficient time to provide the full 15 days notice in the Federal Register prior to advisory committee meetings, pursuant to the final rule on Federal Advisory Committee Management codified at 41 CFR 102-3.150. Therefore, information on the workgroup consultations will be posted on the SAB Web site at http://www.epa.gov/sab as they are available.

Dated: September 8, 2005.
Vanessa Vu,
Director, EPA Science Advisory Board Staff Office.

[FR Doc. 05-18227 Filed 9-12-05; 8:45 am]

BILLING CODE 6560-50-P